DEPARTMENT OF AGRICULTURE

Agricultural Marketing Service

[Docket # FV-04-334]

United States Standards for Grades of Olive Oil

AGENCY: Agricultural Marketing Service, USDA.

ACTION: Notice.

SUMMARY: The Agricultural Marketing Service (AMS), prior to undertaking research and other work associated with revising an official grade standard, is soliciting comments on the petition to change the United States Standards for Grades of Olive Oil. AMS received a petition from olive oil producers asking USDA to consider revising the current U.S. grade standard to conform to current industry standards commonly accepted in the United States and abroad.

DATES: Comments must be submitted on or before December 8, 2004.

ADDRESSES: Interested persons are invited to submit written comments concerning this notice. Comments must be sent to Chere L. Shorter, Standardization Section, Processed Products Branch, Fruit and Vegetable Programs, Agricultural Marketing Service, U.S. Department of Agriculture, 1400 Independence Avenue SW., Room 0709, South Building; STOP 0247, Washington, DC 20250; telephone (202) 720-4693; fax (202) 690-1527, e-mail Chere.Shorter@usda.gov. The United States Standards for Grades of Olive Oil is available either through the address cited above or by accessing the AMS Web site on the Internet at http://www.ams.usda.gov/fv/ppb.html. Any comments received regarding the notice will be posted at that site. Comments also will be available for public inspection in the above office during regular business hours.

FOR FURTHER INFORMATION CONTACT: Chere L. Shorter, telephone (202) 720-4693.

SUPPLEMENTARY INFORMATION:

Background

AMS received a petition from California Olive Oil Council, an association of olive oil producers, requesting the revision of the United States Standards for Grades of Olive Oil. These standards are issued under the Agricultural Marketing Act of 1946 (7 U.S.C. 1621 etc.).

The petitioners are requesting the USDA to revise the terminology employed in connection with grades of olive oil. The current standard, effective since March 22, 1948, uses grades of “fancy,” “choice,” and “substandard.” These terms are not consistent with today's terminology for the olive oil industry. The petitioners are requesting that the new proposed standard, which would be first published as a proposal with a request for public comment, employ the terms used commercially in the marketplace.

These terms are divided into two major groups: “olive oil,” and “olive-pomace oil.” “Olive oil,” is defined as oil obtained exclusively from the fruit of the olive tree, produced without solvents or re-esterification processes. The broad term olive oil includes “virgin olive oil,” “refined olive oil,” and “blended olive oil.” Virgin olive oil is further delineated into two more categories: “virgin oils fit for consumption as they are” and “virgin olive oil not fit for human consumption.” “Virgin oils fit for consumption as they are,” include “extra virgin olive oil,” “virgin olive oil,” and “ordinary olive oil.” “Virgin olive oil not fit for human consumption,” is caused by “rancidity,” and is intended to be refined or used for other technical purposes.

The second major group of olive oil is Olive pomace oil and includes “crude olive-pomace oil,” “refined olive-pomace oil,” and “olive pomace oil.” Olive pomace oil is obtained by treating olive pomace with solvents or other physical treatments, excluding oils of other kinds or oils obtained by re-esterification.

The petitioners have detailed identity characteristics comprising purity criteria applicable to olive oils and olive-pomace oil based on internationally accepted standards.

Domestic olive oil production occurs primarily in California (approximately 99%), with lesser amounts produced in Texas and Arizona. U.S. olive oil production in 1998 was 325,000 gallons (approx. 2,400,000 pounds). The U.S. share of world production is 0.1 percent. In 2003, the U.S. domestic consumption of olive oil was 454 million pounds. The U.S. imports more than 360 million pounds a year ¹. According to the petitioner, there are more than 400 producers and growers of olive oil domestically.

¹ Foreign Trade Division, U.S. Bureau. Office of Trade and Analysis (OTEA), International Trade Administration, U.S. Department of Commerce.

The petitioners believe that changing the standard would enhance the ability of U.S. olive oil producers to compete domestically and internationally. A copy of the petitioners' request is located on the AMS Web site at http://www.ams.usda.gov/fv/ppb.html along with the current U.S. Standards for Grades of Olive Oil.

Agricultural Marketing Service

Prior to undertaking detailed work to develop a proposed revised standard, AMS is soliciting comments on the petition requesting the revision of the U.S. Standards for Grades of Olive Oil. In particular, AMS would welcome comments and information regarding the likely utility of revised terminology to include types of olive oil, namely “Extra-Virgin Olive Oil,” “Virgin Olive Oil,” “Refined Olive Oil,” “Olive Oil,” and “Olive-Pomace Oil” and the probable impact on processors, and growers. AMS is requesting comments on the petitioners proposed standard regarding the quality, purity, and identity characteristics, i.e., color, defects, flavor, methods of analysis, fatty acid composition, or any other pertinent criteria. Further details of the proposed standard are provided in the petition and are available from Chere L. Shorter at the previously mentioned address in the FOR FURTHER INFORMATION CONTACT section or can be found on the AMS Web site at http://www.ams.usda.gov/fv/ppb.html under the “Federal Register Notices” link.

This notice provides for a 30-day comment period for interested parties to comment on the petition to develop a proposed revision of the standard. Should AMS conclude that there is a need for changes to the standard, detailed work would be undertaken and the eventual proposed standard would be published in the Federal Register with a request for comments in accordance with 7 CFR part 36.

Authority: 7 U.S.C. 1621-1627.

Dated: November 2, 2004.
A.J. Yates,
Administrator, Agricultural Marketing Service.

[FR Doc. 04-24826 Filed 11-5-04; 8:45 am]

BILLING CODE 3410-02-P